DEPARTMENT OF ENERGY

Federal Energy Regulatory Commission

[Docket Nos. ER05-1410-000, EL05-148-000, ER06-456-000, EL05-121-000 and EL06-50-000]

PJM Interconnection, L.L.C., American Electric Power Service Corporation; Notice Rescinding Prior Notice

March 9, 2006.

On March 8, 2006, the Commission issued a “Notice of FERC Staff Attendance” in the above-captioned proceedings. This notice was issued in error and is hereby rescinded.

Magalie R. Salas,
Secretary.

[FR Doc. E6-3862 Filed 3-16-06; 8:45 am]

BILLING CODE 6717-01-P